DEPARTMENT OF TRANSPORTATION

Federal Aviation Administration

14 CFR Part 39

[Docket No. FAA-2018-0270; Product Identifier 2017-NM-133-AD; Amendment 39-19324; AD 2018-14-04]

RIN 2120-AA64

Airworthiness Directives; Airbus Airplanes

AGENCY: Federal Aviation Administration (FAA), Department of Transportation (DOT).

ACTION: Final rule.

SUMMARY: We are adopting a new airworthiness directive (AD) for certain Airbus Model A330-200 Freighter, A330-200, A330-300, A340-200, A340-300, A340-500, and A340-600 series airplanes. This AD was prompted by a determination that a functional test to ensure that there is no blockage of vent pipes was not done on the trim tank of certain airplanes during production. This AD requires doing a trim tank functional test, and corrective actions if necessary. We are issuing this AD to address the unsafe condition on these products.

DATES: This AD is effective August 13, 2018.

The Director of the Federal Register approved the incorporation by reference of certain publications listed in this AD as of August 13, 2018.

ADDRESSES: For service information identified in this final rule, contact Airbus SAS, Airworthiness Office—EAL, Rond-Point Emile Dewoitine No: 2, 31700 Blagnac Cedex, France; telephone +33 5 61 93 36 96; fax +33 5 61 93 45 80; email airworthiness.A330-A340@airbus.com; internet http://www.airbus.com. You may view this service information at the FAA, Transport Standards Branch, 2200 South 216th St., Des Moines, WA. For information on the availability of this material at the FAA, call 206-231-3195. It is also available on the internet at http://www.regulations.gov by searching for and locating Docket No. FAA-2018-0270.

Examining the AD Docket

You may examine the AD docket on the internet at http://www.regulations.gov by searching for and locating Docket No. FAA-2018-0270; or in person at Docket Operations between 9 a.m. and 5 p.m., Monday through Friday, except Federal holidays. The AD docket contains this final rule, the regulatory evaluation, any comments received, and other information. The address for Docket Operations (phone: 800-647-5527) is in the ADDRESSES section. Comments will be available in the AD docket shortly after receipt.

FOR FURTHER INFORMATION CONTACT: Vladimir Ulyanov, Aerospace Engineer, International Section, Transport Standards Branch, FAA, 2200 South 216th St., Des Moines, WA 98198; telephone and fax 206-231-3229.

SUPPLEMENTARY INFORMATION:

Discussion

We issued a notice of proposed rulemaking (NPRM) to amend 14 CFR part 39 by adding an AD that would apply to certain Airbus Model A330-200 Freighter, A330-200, A330-300, A340-200, A340-300, A340-500, and A340-600 series airplanes. The NPRM published in the Federal Register on April 16, 2018 (83 FR 16245). The NPRM was prompted by a determination that a functional test to ensure that there is no blockage of vent pipes was not done on the trim tank of certain airplanes during production. The NPRM proposed to require doing a trim tank functional test, and corrective actions if necessary.

We are issuing this AD to address blocked vent pipes, which, in combination with a high level sensor failure, could lead to over-pressurization of the trim tank during refueling or aft fuel transfer. This condition could lead to trim tank rupture and consequent reduced control of the airplane.

The European Aviation Safety Agency (EASA), which is the Technical Agent for the Member States of the European Union, has issued EASA Airworthiness Directive 2017-0152, dated August 17, 2017 (referred to after this as the Mandatory Continuing Airworthiness Information, or “the MCAI”), to correct an unsafe condition for certain Airbus Model A330-200 Freighter, A330-200, A330-300, A340-200, A340-300, A340-500, and A340-600 series airplanes. The MCAI states:

It was discovered that the production functional test to verify the “Tank Pressures during Refuel Overflow” was not performed on the Trim Tank (TT) of A330 and A340 aeroplanes up to MSN [manufacturer serial number] 1711. This test ensures that there is no blockage of the vent pipes.

This condition, if not corrected, could lead, in combination with a high level sensor failure, to an over-pressurisation of the TT during refueling or during aft fuel transfer, possibly resulting in a TT rupture and consequent reduced control of the aeroplane.

To address this potential unsafe condition, Airbus published Service Bulletin (SB) A330-28-3130, SB A340-28-4140 and SB A340-28-5061, to provide functional test instructions.

For the reasons described above, this [EASA] AD requires a one-time functional test of the TT overflow and, depending on findings, accomplishment of applicable corrective action(s).

Corrective actions include a general visual inspection of the aperture leading to the flame arrestors (NACA duct), a detailed inspection of the flame arrestor, and blockage removal or repair of any discrepant NACA duct.

You may examine the MCAI in the AD docket on the internet at http://www.regulations.gov by searching for and locating Docket No. FAA-2018-0270.

Comments

We gave the public the opportunity to participate in developing this final rule. We have considered the comment received. The Air Line Pilots Association, International (ALPA), indicated its support for the NPRM.

Conclusion

We reviewed the relevant data, considered the comments received, and determined that air safety and the public interest require adopting this final rule as proposed, except for minor editorial changes. We have determined that these minor changes:

• Are consistent with the intent that was proposed in the NPRM for addressing the unsafe condition; and

• Do not add any additional burden upon the public than was already proposed in the NPRM.

Related Service Information Under 1 CFR Part 51

Airbus has issued the following service information:

• Service Bulletin A330-28-3130, Revision 00, dated May 18, 2017.

• Service Bulletin A340-28-4140, Revision 00, dated May 18, 2017.

• Service Bulletin A340-28-5061, Revision 00, dated May 18, 2017.

This service information describes procedures for doing a trim tank overflow functional test, a general visual inspection of the aperture leading to the flame arrestors (NACA duct), a detailed inspection of the flame arrestor, and blockage removal or repair of discrepant NACA ducts. These documents are distinct since they apply to different airplane models. This service information is reasonably available because the interested parties have access to it through their normal course of business or by the means identified in the ADDRESSES section.

Costs of Compliance

We estimate that this AD affects 97 airplanes of U.S. registry.

We estimate the following costs to comply with this AD:

Estimated Costs
Action | Labor cost | Parts cost | Cost per product | Cost on U.S. operators
Functional test | 16 work-hours × $85 per hour = $1,360 | $0 | $1,360 | $131,920

We estimate the following costs to do any necessary inspections that would be required based on the results of the functional test. We have no way of determining the number of aircraft that might need these inspections:

On-Condition Costs
Action | Labor cost | Parts cost | Cost per product
Inspections | 2 work-hours × $85 per hour = $170 | $0 | $170

We have received no definitive data that would allow us to provide cost estimates for the blockage removal or repair of a discrepant NACA duct specified in this AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2018-14-04 Airbus: Amendment 39-19324; Docket No. FAA-2018-0270; Product Identifier 2017-NM-133-AD.

(a) Effective Date

This AD is effective August 13, 2018.

(b) Affected ADs

None.

(c) Applicability

This AD applies to the airplanes identified in paragraphs (c)(1) through (c)(7) of this AD, certificated in any category, manufacturer serial numbers 1 through 1711 inclusive.

(1) Airbus Model A330-223F and -243F airplanes.

(2) Airbus Model A330-201, -202, -203, -223, and -243 airplanes.

(3) Airbus Model A330-301, -302, -303, -321, -322, -323, -341, -342, and -343 airplanes.

(4) Airbus Model A340-211, -212, -213 airplanes.

(5) Airbus Model A340-311, -312, and -313 airplanes.

(6) Airbus Model A340-541 airplanes.

(7) Airbus Model A340-642 airplanes.

(d) Subject

Air Transport Association (ATA) of America Code 28, Fuel.

(e) Reason

This AD was prompted by a determination that a functional test to ensure that there is no blockage of vent pipes was not done on the trim tank of certain airplanes during production. We are issuing this AD to address blocked vent pipes, which, in combination with a high level sensor failure, could lead to over-pressurization of the trim tank during refueling or aft fuel transfer. This condition could lead to trim tank rupture and consequent reduced control of the airplane.

(f) Compliance

Comply with this AD within the compliance times specified, unless already done.

(g) Functional Test

Within 42 months after the effective date of this AD, do a trim tank overflow functional test in accordance with the Accomplishment Instructions of the service information specified in paragraphs (g)(1) through (g)(3), as applicable.

(1) Airbus Service Bulletin A330-28-3130, Revision 00, dated May 18, 2017.

(2) Airbus Service Bulletin A340-28-4140, Revision 00, dated May 18, 2017.

(3) Airbus Service Bulletin A340-28-5061, Revision 00, dated May 18, 2017.

(h) Corrective Actions

(1) If, during the functional test required by paragraph (g) of this AD, the trim tank maximum allowable pressure is exceeded: Before further flight, contact the Manager, International Section, Transport Standards Branch, FAA; or the European Aviation Safety Agency (EASA); or Airbus's EASA Design Organization Approval (DOA) to obtain instructions for corrective actions, and within the compliance time indicated in those instructions accomplish the corrective actions accordingly.

(2) If, during the functional test required by paragraph (g) of this AD, the trim surge tank maximum allowable pressure is exceeded: Before further flight, do a general visual inspection of the aperture leading to the flame arrestors (NACA duct) and do a detailed inspection of the flame arrestor in accordance with the Accomplishment Instructions of Airbus Service Bulletin A330-28-3130, Revision 00, dated May 18, 2017; Airbus Service Bulletin A340-28-4140, Revision 00, dated May 18, 2017; or Airbus Service Bulletin A340-28-5061, Revision 00, dated May 18, 2017; as applicable.

(3) If, during any inspection required by paragraph (h)(2) of this AD, any discrepancy (blockage or damage of the NACA duct) is found: Before further flight, accomplish the applicable corrective actions in accordance with the Accomplishment Instructions of Airbus Service Bulletin A330-28-3130, Revision 00, dated May 18, 2017; Airbus Service Bulletin A340-28-4140, Revision 00, dated May 18, 2017; or Airbus Service Bulletin A340-28-5061, Revision 00, dated May 18, 2017; as applicable.

(i) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or EASA; or Airbus's EASA DOA. If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

(1) Refer to Mandatory Continuing Airworthiness Information (MCAI) EASA AD 2017-0152, dated August 17, 2017, for related information. This MCAI may be found in the AD docket on the internet at http://www.regulations.gov by searching for and locating Docket No. FAA-2018-0270.

(2) For more information about this AD, contact Vladimir Ulyanov, Aerospace Engineer, International Section, Transport Standards Branch, FAA, 2200 South 216th St., Des Moines, WA 98198; telephone and fax 206-231-3229.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A330-28-3130, Revision 00, dated May 18, 2017.

(ii) Airbus Service Bulletin A340-28-4140, Revision 00, dated May 18, 2017.

(iii) Airbus Service Bulletin A340-28-5061, Revision 00, dated May 18, 2017.

(3) For service information identified in this AD, contact Airbus SAS, Airworthiness Office—EAL, Rond-Point Emile Dewoitine No: 2, 31700 Blagnac Cedex, France; telephone +33 5 61 93 36 96; fax +33 5 61 93 45 80; email airworthiness.A330-A340@airbus.com; internet http://www.airbus.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on June 26, 2018.
Jeffrey E. Duven,
Director, System Oversight Division, Aircraft Certification Service.

[FR Doc. 2018-14504 Filed 7-6-18; 8:45 am]

BILLING CODE 4910-13-P